DEPARTMENT OF DEFENSE

Department of the Navy

Notice of Availability of Government-Owned Inventions; Available for Licensing

AGENCY: Department of the Navy, DoD.

ACTION: Notice.

SUMMARY: The inventions listed below are assigned to the United States Government as represented by the Secretary of the Navy and are available for licensing by the Department of the Navy.

Navy Case No. 101588//U.S. Patent Application No. 13/372,755: Foam Free Testing Systems and Methods, Navy Case No. 101448//U.S. Patent Application No. 7,372,712: Foam Free Testing Systems and Methods.

ADDRESSES: Requests for copies of the inventions cited should be directed to Andrew Drucker, Naval Facilities Engineering Service Center, Code EV12, 1100 23rd Ave., Port Hueneme, CA 93043-4370 and must include the Navy Case number.

FOR FURTHER INFORMATION CONTACT: Andrew Drucker supporting the Head of Technology Transfer Office, Naval Facilities Engineering Service Center, Code EV12, 1100 23rd Ave., Port Hueneme, CA 93043-4370, telephone 805-982-1108, FAX 805-982-4832, Email: andrew.drucker@navy.mil.

Authority: 35 U.S.C. 207, 37 CFR part 404.

Dated: May 9, 2012.
J.M. Beal,
Lieutenant Commander, Office of the Judge Advocate General, U.S. Navy, Federal Register Liaison Officer.

[FR Doc. 2012-11882 Filed 5-15-12; 8:45 am]

BILLING CODE 3810-FF-P